ENVIRONMENTAL PROTECTION AGENCY

[OPPTS-42212B; FRL-6777-8]

Endocrine Disruptor Screening Program; Proposed Endocrine Disruptor Methods Validation Subcommittee under the National Advisory Council for Environmental Policy and Technology; Notice of Meeting

AGENCY: Environmental Protection Agency (EPA).

ACTION: Notice of public meeting.

SUMMARY: As mandated by the Federal Food, Drug, and Cosmetic Act (FFDCA), as amended by the Food Quality Protection Act of 1996 (FQPA), EPA is implementing an Endocrine Disruptor Screening Program (EDSP). The Agency plans to establish an Endocrine Disruptor Methods Validation Subcommittee (EDMVS) under the National Advisory Council for Environmental Policy and Technology (NACEPT) to assist its EDSP implementation activities. NACEPT is a chartered Federal advisory committee subject to the provisions of the Federal Advisory Committee Act. Through NACEPT, the EDMVS will provide technical advice and recommendations to EPA regarding the design, conduct, and interpretation of studies, and preparation of peer review documents necessary to validate endocrine disruptor screening and testing methods. The public meeting is intended to solicit input from interested stakeholders regarding their views on the organization of EDVMS. The Agency is interested in obtaining input from the agrichemical and commodity chemical industries; environmental/public interest organizations; public health organizations; animal welfare organizations; Federal agencies; State, local and tribal governments; academia; consumers, and the public.

DATES: The meeting will be held on April 24, 2001, from 9 a.m. to 5 p.m. Requests to participate in the meeting must be received on or before April 20, 2001.

ADDRESSES: The meeting will be held at the Holiday Inn Rosslyn at Key Bridge, 1900 Fort Meyer Dr., Arlington, VA, 22209 (telephone: 703-807-2000). Requests to participate may be submitted by mail, electronically, or in person. Please follow the detailed instructions for each method as provided in Unit III. of the SUPPLEMENTARY INFORMATION. To ensure proper receipt by EPA, your request must identify docket control number OPPTS-42212B in the subject line on the first page of your response.

FOR FURTHER INFORMATION CONTACT: For general information contact: TSCA Hotline, Environmental Assistance Division (7408), Office of Pollution Prevention and Toxics, Environmental Protection Agency, 401 M St., SW., Washington, DC 20460. Telephone 202-554-1404; TDD 202-554-0551; e-mail: TSCA-Hotline@epa.gov.

For technical information contact: Anthony Maciorowski, Senior Technical Advisor, Office of Prevention, Pesticides and Toxic Substances; telephone: 202-260-3048; e-mail: maciorowski.anthony@epa.gov or

Gary Timm, Senior Technical Advisor, Office of Prevention, Pesticides and Toxic Substances; telephone: 202-260-1859; e-mail: timm.gary@epa.gov

SUPPLEMENTARY INFORMATION:

I. Does this Action Apply to Me?

This action is directed to the public in general. You may be interested in the meeting set forth in this notice if you produce, manufacture or import pesticide chemicals, substances that may have an effect cumulative to an effect of a pesticide, or substances found in sources of drinking water. To determine whether you or your business may have an interest in this notice you should carefully examine section 408(p) of FFDCA, as amended by FQPA (Public Law 104-170), 21 U.S.C. 346a(p) and amendments to the Safe Drinking Water Act (Public Law 104-182), 42 U.S.C. 300j-17. Since other entities may also be interested, the Agency has not attempted to describe all the specific entities that may be affected by this action. If you have any questions regarding the applicability of this action to a particular entity, consult the technical persons listed under FOR FURTHER INFORMATION CONTACT.

II. How Can I Get Additional Information, Including Copies of this Document or Other Related Documents?

1. Electronically. You may obtain electronic copies of this document, and certain other related documents that might be available electronically, from the EPA Internet Home Page at http://www.epa.gov/scipoly. To access this document, on the Home Page select “Endocrine Disruptors” which will take you to the OSCP Endocrine Disruptor Screening Program Web Site.

2. In person. The Agency has established an official record for this meeting under docket control number OPPTS-42212B. The official record consists of the documents specifically referenced in this notice, any public comments received during an applicable comment period, and other information related to the Endocrine Disruptor Methods Validation Subcommittee. This record includes the documents that are physically located in the docket, as well as the documents that are referenced in those documents. The public version of the official record, which includes printed, paper versions of any electronic comments that may be submitted during an applicable comment period, is available for inspection in the TSCA Nonconfidential Information Center, North East Mall Rm. B-607, Waterside Mall, 401 M St., SW., Washington, DC. The Center is open from noon to 4 p.m., Monday through Friday, excluding legal holidays. The telephone number of the Center is (202) 260-7099.

III. How Can I Request to Participate in this Meeting?

You may submit a request to participate in this meeting through the mail, in person, or electronically. Do not submit any information in your request that is considered CBI. Your request must be received by EPA on or before April 20, 2001. To ensure proper receipt by EPA, it is imperative that you identify docket control number OPPTS-42212B in the subject line on the first page of your request.

1. By mail. You may submit a written request to: Document Control Office (7407), Office of Pollution Prevention and Toxics (OPPT), Environmental Protection Agency, 1200 Pennsylvania Ave., NW., Washington, DC 20460.

2. In person or by courier. You may deliver a written request to: OPPT Document Control Office (DCO) in the East Tower Rm. G-099, Waterside Mall, 401 M St., SW., Washington, DC. The DCO is open from 8 a.m. to 4 p.m., Monday through Friday, excluding legal holidays. The telephone number for the DCO is (202) 260-7093.

3. Electronically. You may submit your request electronically by e-mail to: oppt.ncic@epa.gov. Do not submit any information electronically that you consider to be CBI. Use Wordperfect 6.1/8.0 or ASCII file format and avoid the use of special characters and any form of encryption. All comments in electronic form must be identified by docket control number OPPTS-42212B. You may also file a request online at many Federal Depository Libraries.

List of Subjects

Environmental protection, Chemicals, Endocrine disruptors, Pesticides.

Dated: March 21, 2001.
Susan B. Hazen,
Acting Assistant Administrator, Office of Prevention, Pesticides and Toxic Substances.

[FR Doc. 01-7505 Filed 3-22-01; 12:33 pm]

BILLING CODE 6560-50-S